FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 2, 2019.

A. Federal Reserve Bank of Chicago (Colette A. Fried, Assistant Vice President) 230 South LaSalle Street, Chicago, Illinois 60690-1414:

1. Jody J. Petrie, Carmel, Indiana, through joint ownership and as trustee of the Julia L. Petrie Irrevocable GST Trust 2010, the Emily J. Petrie Irrevocable GST Trust 2010, the Julia L. Petrie Irrevocable Trust 2010, and the Emily J. Petrie Irrevocable Trust 2010, individually, and as a group acting in concert with the Julia L. Petrie Irrevocable GST Trust 2010, the Emily J. Petrie Irrevocable GST Trust 2010, the Julia L. Petrie Irrevocable Trust 2010, and the Emily J. Petrie Irrevocable Trust 2010, John H. Petrie, Carmel, Indiana, Claranna Petrie and Robert G. Negrete, both of Henderson, Nevada, Conradine Riedel, Knoxville, Tennessee, George A. Petrie and Cristina P. Petrie, both of Tampa, Florida, and Matthew E. Kaercher, Carmel, Indiana; to retain voting shares of Merchants Bancorp, Carmel, Indiana, and thereby indirectly retain shares of Merchants Bank of Indiana, Carmel, Indiana, and Farmers-Merchants Bank of Illinois, Joy, Illinois.

2. Carey Rogers Kulongoski, Portland, Oregon, Randall D. Rogers, Jr., Indianapolis, Indiana, Katherine H. Rogers, Sedona, Arizona, the Katherine H. Rogers Irrevocable GST Trust 2011, the Carey Rogers Kulongoski Irrevocable GST Trust 2011, the Randall D. Rogers, Jr. Irrevocable GST Trust 2011, and Mary H. Rogers, Vero Beach, Florida, as trustee of the Katherine H. Rogers Irrevocable GST Trust 2011, the Carey Rogers Kulongoski Irrevocable GST Trust 2011, and the Randall D. Rogers, Jr. Irrevocable GST Trust 2011; to retain voting shares of Merchants Bancorp, Carmel, Indiana, and thereby indirectly retain shares of Merchants Bank of Indiana, Carmel, Indiana, and Farmers-Merchants Bank of Illinois, Joy, Illinois.

B. Federal Reserve Bank of Dallas (Robert L. Triplett III, Senior Vice President) 2200 North Pearl Street, Dallas, Texas 75201-2272:

1. The Linda Mitchell Bank Stock Trust, Wellington, Texas, to join the Holton Family Group, a group acting in concert; to retain voting shares of WSB Bancshares, Inc., and indirectly retain shares of Wellington State Bank, both of Wellington, Texas.

Board of Governors of the Federal Reserve System, April 11, 2019.
Yao-Chin Chao,
Assistant Secretary of the Board.

[FR Doc. 2019-07558 Filed 4-15-19; 8:45 am]

BILLING CODE P